DEPARTMENT OF DEFENSE

Department of the Army

[Docket ID USA-2011-0009]

Privacy Act of 1974; System of Records

AGENCY: Department of the Army, DoD.

ACTION: Notice to alter a system of records.

SUMMARY: Department of the Army is altering a system of records notices in its existing inventory of record systems subject to the Privacy Act of 1974, (5 U.S.C. 552a), as amended.

DATES: This proposed action will be effective without further notice on June 2, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones at (703) 428-6185, or Department of the Army, Privacy Office, U.S. Army Records Management and Declassification Agency, 7701 Telegraph Road, Casey Building, Suite 144, Alexandria, VA 22325-3905.

SUPPLEMENTARY INFORMATION: Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on April 26, 2011 to the House Committee on Government Reform, the Senate Committee on Homeland Security and Governmental Affairs, and the Office of Management and Budget (OMB) pursuant to paragraph 4c of Appendix I to OMB Circular No. A-130, “Federal Agency Responsibilities for Maintaining Records About Individuals,” February 20, 1996, 61 FR 6427.

Dated: April 27, 2011.
Morgan F. Park,
Alternate OSD Federal Register Liaison Officer, Department of Defense.

A0600-8-1c AHRC DoD

System name:

Defense Casualty Information Processing System (DCIPS)(April 25, 2005, 70 FR 21183).

* * * * *

Changes:

Categories of records in the system:

Delete entry and replace with “Civilian Information: Individual's name, Social Security Number (SSN), date of birth, sex, race, religion, citizenship, DNA tracking information, employment information, financial information, mailing/home address, marital status, medical information, mother's maiden name, mother's middle name, other names used, personal cell telephone number, personal e-mail address, place of birth.

Contact Information: Home of record, and other pertinent information, emergency contact, home contact and address information, home telephone number.

Military Information: Branch of service, organization, duty, Army rank and military occupational specialty (MOS), Air Force Specialty Code (AFSC) and rank, (Navy rank and rate, Marine Corp rank and specialty code, personnel records, inquiries from other agencies and individuals, disability information, internal system ID number.

Casualty Information: DD Form 1300 (Report of Casualty); biometrics; casualty information (cause, circumstances, injuries observed post mortem, injury/illness description, location of death, status, and treatment facility); cemetery contact and address information, funeral, genealogy information.

Beneficiary Information: Correspondence with primary next of kin/secondary next of kin, child information, Dependency and Indemnity Compensation beneficiary information, Servicemen's Group Life Insurance (SGLI) beneficiary information, spouse's truncated Social Security Number (SSN).

Law Enforcement Information: Incarcerated next-of-kin, legal status.”

Authority for maintenance of the system:

Delete entry and replace with “10 U.S.C. 3013, Secretary of the Army, 10 U.S.C. 5013, Secretary of the Navy, 10 U.S.C. 5043, Commandant of the Marine Corps, 10 U.S.C. 8013, Secretary of the Air Force; 44 U.S.C. 3101, Records Management by Federal Agencies; DoDD 1300.15, Military Funeral Support; DoDD 1300.22, Mortuary Affairs Policy; DoDI 1300.18, Personnel Casualty Matters, Policies, and Procedures; Office of the Assistant Secretary of Defense Memorandum, Subject: Defense Casualty Information Processing System, dated Oct 22, 1999; and E.O. 9397 (SSN), as amended.”

* * * * *

Routine uses of records maintained in the system, including categories of users and the purposes of such uses:

Delete entry and replace with “In addition to those disclosures generally permitted under Title 5 U.S.C. 552a(b) of the Privacy Act of 1974, these records contained therein may specifically be disclosed outside the DoD as a routine use pursuant to 5 U.S.C. 552a(b)(3) as follows:

Information from these records may be disclosed to the Department of Veterans Affairs, and other Federal agencies in connection with eligibility, notification and assistance in obtaining benefits due.

If deceased has no spouse, children, representative of minor children, or an executor or personal representative named in the deceased's will, then information from these records may be released to the primary next of kin (PNOK) family member(s) of the injured or deceased DoD personnel to aid in the settlement of the member's estate.

The DoD `Blanket Routine Uses' set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Retrievability:

Delete entry and replace with “By individual's name and/or Social Security Number (SSN) or last four of SSN if spouse.”

* * * * *

Retention and disposal:

Delete entry and replace with “Offices having Army-wide responsibility: Records are permanent. Keep in current file area until no longer needed for conducting business, then retire to Records Holding Area (RHA)/Army Electronic Archive (AEA). The RHA/AEA will transfer to the National Archives when 25 years old.

Offices other than having Army-wide responsibility: Keep in current file area until record is 2 years old, and then destroy.”

System managers and addresses:

Delete entry and replace with “Office of the Under Secretary of Defense, Personnel and Readiness, Military Severely Injured Joint Support Operations Center, 2107 Wilson Blvd., Arlington, VA 22201-3058.

Commander, U.S. Army Human Resources Command, 1600 Spearhead Division Avenue, Fort Knox, KY 40122-5001.

Commander, Headquarters Air Force Personnel Center, 550 C Street W, Randolph Air Force Base, TX 78150-4703.

Commander, Navy Personnel Command, 5720 Integrity Drive, Millington, TN 38055-3130.

Commandant of the Marine Corps Headquarters, U.S. Marine Corps, 3280 Russell Road, Quantico, VA 22134-5101.”

Notification procedure:

Delete entry and replace with “Individuals seeking to determine if information about themselves is contained in this system of records should address written inquiries to the appropriate system manager.

For verification purposes, individual should provide their full name, Social Security Number (SSN), last four only if spouse, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking to determine if information about themselves is contained in this record system should address written inquiries to the appropriate system manager.

For verification purposes, individual should provide their full name, Social Security Number (SSN), last four only if spouse, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0600-8-1c AHRC DoD

System name:

Defense Casualty Information Processing System (DCIPS).

System location:

Office of the Under Secretary of Defense, Personnel and Readiness, Military Severely Injured Joint Support Operations Center, 2107 Wilson Blvd., Arlington, VA 22201-3058.

Commander, U.S. Army Human Resources Command, 1600 Spearhead Division Avenue, Fort Knox, KY 40122-5001.

Commander, Headquarters Air Force Personnel Center, 550 C Street W, Randolph Air Force Base, TX 78150-4703.

Commander, Navy Personnel Command, 5720 Integrity Drive, Millington, TN 38055-3130.

Commandant of the Marine Corps Headquarters, U.S. Marine Corps, 3280 Russell Road, Quantico, VA 22134-5101.

Categories of individuals covered by the system:

Department of Defense military personnel (active component and reserve component) and their family members; DoD civilian personnel, retired service members, non-DoD civilians, and other individuals that are reported as casualties.

Categories of records in the system:

Civilian Information: Individual's name, Social Security Number (SSN), date of birth, sex, race, religion, citizenship, DNA tracking information, employment information, financial information, mailing/home address, marital status, medical information, mother's maiden name, mother's middle name, other names used, personal cell telephone number, personal e-mail address, place of birth.

Contact Information: Home of record, and other pertinent information, emergency contact, home contact and address information, home telephone number.

Military Information: Branch of service, organization, duty, Army rank and military occupational specialty (MOS), Air Force

Specialty Code (AFSC) and rank, (Navy rank and rate, Marine Corp rank and specialty code, personnel records, inquiries from other agencies and individuals, disability information, internal system ID number.

Casualty Information: DD Form 1300 (Report of Casualty); biometrics; casualty information (cause, circumstances, injuries observed post mortem, injury/illness description, location of death, status, and treatment facility); cemetery contact and address information, funeral, genealogy information.

Beneficiary Information: Correspondence with primary next of kin/secondary next of kin, child information, Dependency and Indemnity Compensation beneficiary information, Servicemen's Group Life Insurance (SGLI) beneficiary information, spouse's truncated Social Security Number (SSN).

Law Enforcement Information: Incarcerated next-of-kin, legal status.

Authority for maintenance of the system:

10 U.S.C. 3013, Secretary of the Army, 10 U.S.C. 5013, Secretary of the Navy, 10 U.S.C. 5043, Commandant of the Marine Corps, 10 U.S.C. 8013, Secretary of the Air Force; 44 U.S.C. 3101, Records Management by Federal Agencies; DoDD 1300.15, Military Funeral Support; DoDD 1300.22, Mortuary Affairs Policy; DoDI 1300.18, Personnel Casualty Matters, Policies, and Procedures; Office of the Assistant Secretary of Defense Memorandum, Subject: Defense Casualty Information Processing System, dated Oct 22, 1999; and E.O. 9397 (SSN), as amended.

Purpose(s):

To provide DoD with a single joint military casualty information processing system; to provide support for the management of casualty and mortuary affairs by the Services Casualty and Mortuary Affairs Offices; to respond to inquiries; to provide statistical data comprising type, number, place and cause of incident to DoD Services' members; and to support the families of service members.

Routine uses of records maintained in the system, including categories of users and the purposes of such uses:

In addition to those disclosures generally permitted under Title 5 US Code Section 552a(b) of the Privacy Act of 1974, these records contained therein may specifically be disclosed outside the DoD as a routine use pursuant to Title 5 US Code Section 552a(b)(3) as follows:

Information from these records may be disclosed to the Department of Veterans Affairs, and other Federal agencies in connection with eligibility, notification and assistance in obtaining benefits due.

If deceased has no spouse, children, representative of minor children, or an executor or personal representative named in the deceased's will, then information from these records may be released to the primary next of kin (PNOK) family member(s) of the injured or deceased DoD personnel to aid in the settlement of the member's estate.

The DoD `Blanket Routine Uses' set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and on electronic storage media.

Retrievability:

By individual's name and/or Social Security Number (SSN) or last four of SSN if spouse.

Safeguards:

Buildings and/or rooms employ alarms, security guards, and are security-controlled areas accessible only to authorized persons. Hard copy records are maintained in General Service Administration approved security containers, and records in the U.S. Army Investigative Records Repository are stored in security-controlled areas accessible only to authorized persons. Electronically and optically stored records are maintained in ‘fail-safe’ system software with password-protected access. Records are accessible only to authorized persons with a need-to-know who are properly screened, cleared, and trained.

Retention and disposal:

Offices having Army-wide responsibility: Records are permanent. Keep in current file area until no longer needed for conducting business, then retire to Records Holding Area (RHA)/Army Electronic Archive (AEA). Transfer a snap shot of the DCIPS Master File to AEA annually at the end of the fiscal year. The AEA will transfer a snap shot of DCIPS to the National Archives and Records Administration (NARA) one year after the signature by the Archivist of the United States. Thereafter, the AEA will transfer a snap shot of DCIPS to NARA every two years. Legal custody of each snap shot will transfer to NARA when the record is 25 years old.

Offices other than having Army-wide responsibility: Keep in current file area until record is 2 years old, and then destroy.

System managers and addresses:

Office of the Under Secretary of Defense, Personnel and Readiness, Military Severely Injured Joint Support Operations Center, 2107 Wilson Blvd., Arlington, VA 22201-3058.

Commander, U.S. Army Human Resources Command, 1600 Spearhead Division Avenue, Fort Knox, KY 40122-5001.

Commander, Headquarters Air Force Personnel Center, 550 C Street W, Randolph Air Force Base, TX 78150-4703.

Commander, Navy Personnel Command, 5720 Integrity Drive, Millington, TN 38055-3130.

Commandant of the Marine Corps Headquarters, U.S. Marine Corps, 3280 Russell Road, Quantico, VA 22134-5101.

Notification procedure:

Individuals seeking to determine if information about themselves is contained in this record system should address written inquiries to the appropriate system manager.

For verification purposes, individual should provide their full name, Social Security Number (SSN), last four only if spouse, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: `I declare (or certify, verify, or state) under penalty of perjury that the foregoing is true and correct. Executed on (date). (Signature)'.

Record access procedures:

Individuals seeking to determine if information about themselves is contained in this record system should address written inquiries to the appropriate system manager.

For verification purposes, individual should provide their full name, Social Security Number (SSN), last four only if spouse, any details which may assist in locating records, and their signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The Army's rules for accessing records, and for contesting contents and appealing initial agency determinations are contained in Army Regulation 340-21; 32 CFR part 505; or may be obtained from the system manager.

Record source categories:

From casualty reports and investigations received from commander, medical personnel, medical examiners, and other related official sources.

Exemptions claimed for the system:

None.

[FR Doc. 2011-10678 Filed 5-2-11; 8:45 am]

BILLING CODE 5001-06-P